SMALL BUSINESS ADMINISTRATION

[Disaster Declaration # 15700; Oregon Disaster Number OR-00092 Declaration of Economic Injury]

Administrative Declaration of an Economic Injury Disaster for the State of Oregon

AGENCY: U.S. Small Business Administration.

ACTION: Amendment 1.

SUMMARY: This is an amendment of the Economic Injury Disaster Loan (EIDL) declaration for the State of Oregon, dated 09/27/2018.

Incident: Wildfires.

Incident Period: 07/15/2018 through 11/03/2018.

DATES: Issued on 05/13/2019.

Economic Injury (EIDL) Loan Application Deadline Date: 06/27/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the Administrator's Economic Injury disaster declaration for the State of Oregon, dated 09/27/2018, is hereby amended to establish the incident period for this disaster as beginning 07/15/2018 and continuing through 11/03/2018.

All other information in the original declaration remains unchanged.

(Catalog of Federal Domestic Assistance Number 59008)

Christopher M. Pilkerton,
Acting Administrator.

[FR Doc. 2019-10321 Filed 5-16-19; 8:45 am]

BILLING CODE 8025-01-P